DEPARTMENT OF COMMERCE

National Oceanic and Atmospheric Administration

RIN 0648-XE975

South Atlantic Fishery Management Council—Public Meetings

AGENCY: National Marine Fisheries Service (NMFS), National Oceanic and Atmospheric Administration (NOAA), Commerce.

ACTION: Notice of informational Webinars.

SUMMARY: The South Atlantic Fishery Management Council (Council) will hold two informational Webinars pertaining to the Council's 2016-2020 Vision Blueprint for the Snapper Grouper Fishery.

DATES: The Webinars will be held on November 21, 2016, to view the agenda see SUPPLEMENTARY INFORMATION.

ADDRESSES: Council address: South Atlantic Fishery Management Council, 4055 Faber Place Drive, Suite 201, N. Charleston, SC 29405.

FOR FURTHER INFORMATION CONTACT: Kim Iverson, Public Information Officer, SAFMC; phone 843/571-4366 or toll free 866/SAFMC-10; FAX 843/769-4520; email: kim.iverson@safmc.net.

SUPPLEMENTARY INFORMATION:

Agenda

The Council will hold two Webinars to inform the public on progress to date on implementation of priority items in the 2016-2020 Vision Blueprint for the Snapper Grouper Fishery. The Vision Blueprint is a long-term strategic plan for managing the snapper grouper fishery, and has been developed with stakeholder input. The Vision Blueprint identifies the goals, objectives, strategies, and actions that support the Vision for the snapper grouper fishery and centers around four goal areas: (1) Science; (2) Management; (3) Communication; and (4) Governance. The informal Webinars are being held as part of an annual evaluation of the Vision Blueprint and are designed to let the public know what the Council accomplished during the year in terms of addressing priority items within the Blueprint.

The Webinars will be conducted at 10 a.m. and at 6 p.m. The Webinars will be accessible via the Internet from the “Other Meetings” page of Council's Web site, at www.safmc.net. Registration for the Webinars is required. Register for the 10 a.m. Webinar, at https://attendee.gotowebinar.com/register/6323613905978491652. Register for the 6 p.m. Webinar, at https://attendee.gotowebinar.com/register/5214638781622248964. Additional information about the Council's Vision Blueprint is available from the “Vision Project” page of the Council's Web site, at www.safmc.net.

Special Accommodations

These Webinars are physically accessible to people with disabilities. Requests for auxiliary aids should be directed to the SAFMC office (see ADDRESSES) at least 5 business days prior to the meeting.

Note: The times and sequence specified in this agenda are subject to change.

Authority: 16 U.S.C. 1801 et seq.

Dated: October 18, 2016.
Tracey L. Thompson,
Acting Director, Office of Sustainable Fisheries, National Marine Fisheries Service.

[FR Doc. 2016-25488 Filed 10-20-16; 8:45 am]

BILLING CODE 3510-22-P